ENVIRONMENTAL PROTECTION AGENCY

[OPP-2005-0134; FRL-7714-7]

Sodium Chlorite; Receipt of Application for Emergency Exemption, Solicitation of Public Comment

AGENCY: Environmental Protection Agency (EPA).

ACTION: Notice.

SUMMARY: EPA has received a public health exemption request to use the pesticide product sodium chlorite (CAS No. 7758-19-2) to treat up to 2,500 boxes of papers, pictures, negatives, and other items stored in a fumigation chamber in the garage basement of the Boca Building, in Boca Raton, FL, to control or inactivate potential contamination with Bacillus anthracis (anthrax) spores. The Applicant proposed the use of sodium chlorite specifically for inactivation of anthrax spores. Due to the urgent nature of this request, EPA authorized decontamination procedures at this site which involved sodium chlorite on April 4, 2005, in advance of this Notice. With this notice, EPA is soliciting public comments on this action.

DATES: Comments, identified by docket identification (ID) number OPP-2005-0134, must be received on or before June 20, 2005.

ADDRESSES: Comments may be submitted electronically, by mail, or through hand delivery/courier. Follow the detailed instructions as provided in Unit I. of the SUPPLEMENTARY INFORMATION.

FOR FURTHER INFORMATION CONTACT: Carmen Rodia, Registration Division (7505C), Office of Pesticide Programs, Environmental Protection Agency, 1200 Pennsylvania Avenue, NW., Washington, DC 20460-0001; telephone number: (703) 306-0327; fax number: (703) 308-5433; e-mail address: rodia.carmen@epa.gov.

SUPPLEMENTARY INFORMATION:

I. General Information

A. Does this Action Apply to Me?

You may be potentially affected by this action if you are a person in the vicinity of the “Boca Building,” which is located at 5401 Broken Sound Boulevard, Boca Raton, FL 33487-3512, or pesticide manufacturer (NAICS code 32532).

This listing is not intended to be exhaustive, but rather provides a guide for readers regarding entities likely to be affected by this action. Other types of entities not listed in this unit could also be affected. The North American Industrial Classification System (NAICS) code has been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket ID number OPP-2005-0134. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Room 119, Crystal Mall #2, 1801 S. Bell St., Arlington, VA 22202-4501. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in the EPA Dockets. Information claimed as CBI and other information whose disclosure is restricted by statute, which is not included in the official public docket, will not be available for public viewing in EPA Dockets. EPA's policy is that copyrighted material will not be placed in EPA Dockets but will be available only in printed, paper form in the official public docket. To the extent feasible, publicly available docket materials will be made available in EPA Dockets. When a document is selected from the index list in EPA Dockets, the system will identify whether the document is available for viewing in EPA Dockets. Although not all docket materials may be available electronically, you may still access any of the publicly available docket materials through the docket facility identified in Unit I.B.1. EPA intends to work towards providing electronic access to all of the publicly available docket materials through EPA Dockets.

For public commenters, it is important to note that EPA's policy is that public comments, whether submitted electronically or in paper, will be made available for public viewing in EPA Dockets as EPA receives them and without change, unless the comment contains copyrighted material, CBI, or other information whose disclosure is restricted by statute. When EPA identifies a comment containing copyrighted material, EPA will provide a reference to that material in the version of the comment that is placed in EPA Dockets. The entire printed comment, including the copyrighted material, will be available in the public docket.

Public comments submitted on computer disks that are mailed or delivered to the docket will be transferred to EPA Dockets. Public comments that are mailed or delivered to the Docket will be scanned and placed in EPA Dockets. Where practical, physical objects will be photographed, and the photograph will be placed in EPA Dockets along with a brief description written by the docket staff.

C. How and to Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA Dockets. If EPA cannot read your comment due to technical difficulties and cannot contact you for clarification, EPA may not be able to consider your comment.

i. EPA Dockets. Your use of EPA Dockets to submit comments to EPA electronically is EPA's preferred method for receiving comments. Go directly to EPA Dockets at http://www.epa.gov/edocket/, and follow the online instructions for submitting comments. Once in the system, select “search,” and then key in docket ID number OPP-2005-0134. The system is an “anonymous access” system, which means EPA will not know your identity, e-mail address, or other contact information unless you provide it in the body of your comment.

ii. E-mail. Comments may be sent by e-mail to opp-docket@epa.gov, Attention: Docket ID Number OPP-2005-0134. In contrast to EPA Dockets, EPA's e-mail system is not an “anonymous access” system. If you send an e-mail comment directly to the docket without going through EPA Dockets, EPA's e-mail system automatically captures your e-mail address. E-mail addresses that are automatically captured by EPA's e-mail system are included as part of the comment that is placed in the official public docket, and made available in EPA Dockets.

iii. Disk or CD ROM. You may submit comments on a disk or CD ROM that you mail to the mailing address identified in Unit I.C.2. These electronic submissions will be accepted in WordPerfect or ASCII file format. Avoid the use of special characters and any form of encryption.

2. By mail. Send your comments to: Public Information and Records Integrity Branch (PIRIB) (7502C), Office of Pesticide Programs (OPP), Environmental Protection Agency, 1200 Pennsylvania Avenue, NW., Washington, DC 20460-0001, Attention: Docket ID Number OPP-2005-0134.

3. By hand delivery or courier. Deliver your comments to:Public Information and Records Integrity Branch (PIRIB), Office of Pesticide Programs (OPP), Environmental Protection Agency, Room 119, Crystal Mall #2, 1801 S. Bell St., Arlington, VA 22202-4501, Attention: Docket ID Number OPP-2005-0134. Such deliveries are only accepted during the docket's normal hours of operation as identified in Unit I.B.1.

D. How Should I Submit CBI to the Agency?

Do not submit information that you consider to be CBI electronically through EPA Dockets or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA Dockets. If you submit the copy that does not contain CBI on disk or CD ROM, mark the outside of the disk or CD ROM clearly that it does not contain CBI. Information not marked as CBI will be included in the public docket and EPA Dockets without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice.

7. Make sure to submit your comments by the deadline in this document.

8. To ensure proper receipt by EPA, be sure to identify the docket ID number assigned to this action in the subject line on the first page of your response. You may also provide the name, date, and Federal Register citation.

II. Background

A. What Action is the Agency Taking?

Under section 18 of the Federal Insecticide, Fungicide, and Rodenticide Act (FIFRA) (7 U.S.C. 136p), at the discretion of the Administrator, any Federal or State agency may be exempted from any provision of FIFRA if the Administrator determines that emergency conditions exist which require the exemption. EPA's Office of Solid Waste and Emergency Response has requested the Administrator to issue a public health exemption for the use of the pesticide product Sabrechlor 25 (which contains the active ingredient sodium chlorite) on various items present in the “Boca Building,” which is located at 5401 Broken Sound Boulevard, Boca Raton, FL 33487-3512 to inactivate potential contamination with Bacillus anthracis (anthrax) spores. Information in accordance with 40 CFR part 166 was submitted as part of this request. The West Palm Beach County Department of Health closed (quarantined) the Boca Building on October 7, 2001, after two employees were admitted to the hospital with symptoms of anthrax exposure.

As part of this request, the Applicant asserted that approximately 2,500 boxes containing items (e.g., papers, pictures, negatives, and other items) potentially contaminated with anthrax spores needed to be fumigated so that they no longer pose a human health risk and so that the quarantine imposed on the Boca Building by the West Palm Beach County Department of Health could be lifted and the building can be cleared for normal use. No pesticide product is currently registered for this use. The Remedial Action Plan (RAP) proposed that the 2,500 boxes be treated in a tarp-covered, sealed chamber measuring 16' x 7.5' x 100' that is set up in the garage basement of the Boca Building. Because the chamber will hold only about 180 to 270 boxes per fumigation, a total of 9 to 15 fumigations will be required to decontaminate the entire lot. The requested decontamination method is the best alternative for these circumstances and will be effective in killing anthrax spores and will not pose unreasonable adverse effects to workers, the surrounding community, and the environment.

The regulations governing section 18 of FIFRA require publication of a notice of receipt of an application for a public health exemption proposing the use of sodium chlorite specifically for inactivation of Bacillus anthracis (anthrax) spores because this is similar to previous requests and a complete application for registration under section 3 has not been received (40 CFR 166.24(a)(6)). No pesticide products are currently registered by EPA for this use. The requested public health exemption was granted in advance of the public notification because EPA concluded that the need for the decontamination procedures was urgent, owing to the ongoing threat posed by the stored material that may have contained spores of the bacteria that causes anthrax. The decontamination work described in this notice commenced on or about the issue date for this public health exemption request (April 4, 2005) and will conclude by or before July 4, 2005, the expiration date for this exemption. This notice provides an opportunity for public comment on the granting of the exemption. The Agency, will review and consider all comments received during the 15-day public comment period regarding the public health exemption requested by EPA's Office of Solid Waste and Emergency Response.

List of Subjects

Environmental protection, Pesticides and pests.

Dated: May 19, 2005.
Lois A. Rossi,
Director, Registration Division, Office of Pesticide Programs.

[FR Doc. 05-11105 Filed 6-2-05; 8:45 am]

BILLING CODE 6560-50-S